DEPARTMENT OF TRANSPORTATION

Federal Highway Administration

Notice To Rescind a Notice of Intent To Prepare an Environmental Impact Statement (EIS): Appalachian Development Highway System Corridor K (Relocated U.S. 64), From West of the Ocoee River to State Route 68 Near Ducktown, Polk County, TN

AGENCY: Federal Highway Administration (FHWA), DOT.

ACTION: Notice of intent.

SUMMARY: The Federal Highway Administration (FHWA) is issuing this notice to advise the public that the Notice of Intent published on October 28, 1999 to prepare a Environmental Impact Statement (EIS) for the proposed Appalachian Development Highway System Corridor K (Relocated U.S. 64), From West of the Ocoee River to State Route 68 Near Ducktown, Polk County, Tennessee, is being rescinded.

FOR FURTHER INFORMATION CONTACT: Mr. Charles J. O'Neill, Planning and Program Management Team Leader, Federal Highway Administration—Tennessee Division Office, 640 Grassmere Park Road, Suite 112, Nashville, TN 37211. 615-781-5772.

SUPPLEMENTARY INFORMATION: The FHWA, in cooperation with the Tennessee Department of Transportation, is rescinding the notice of intent to prepare a Draft Environmental Impact Statement (DEIS) on the Appalachian Development Highway System Corridor K (Relocated U.S. 64) project, from West of the Ocoee River to State Route 68 near Ducktown, Polk County, Tennessee. The proposed project was proposed to construct a 20 mile segment of Corridor K of the Appalachian Highway System (ADHS) in Polk County, Tennessee.

The project as described in the September 15, 2003 Draft Environmental Impact Statement (DEIS) was proposed to improve the transportation system linkages in southeastern Tennessee; provide a highway that satisfies the design standards appropriate to a roadway on the ADHS and the National Truck Network; improve safety for vehicles and pedestrians; reduce travel delays for through traffic; and promote the mission of the U.S. Department of Agriculture, Forest Service's Scenic Byway Program.

Since the approval of the DEIS, a development and transportation study of the Corridor K Region was undertaken to further address the economic development need for this corridor. The study sponsored by the Appalachian Regional Commission, the Tennessee Department of Transportation and the Southeast Tennessee Development District was completed in February 2008 and concluded that there is a clear economic development need for an improved east-west transportation corridor to serve this region. A new Environmental Impact Statement will be prepared and will evaluate all reasonable alternatives, possibly including alignments not evaluated in the original DEIS. The original NOI is being rescinded and a new NOI will be published subsequent to this NOI.

To ensure that the full range of issues related to this proposed action are identified and taken into account, comments and suggestions are invited from all interested parties. Comments and questions concerning the proposed action should be directed to the FHWA contact person identified above at the address provided above.

(Catalog of Federal Domestic Assistance Program Number 20.205, Highway Planning and Construction. The regulations implementing Executive Order 12372 regarding intergovernmental consultation on Federal programs and activities apply to this proposed program.)

Charles J. O'Neill,
Planning and Program Management Team Leader, Federal Highway Administration, Nashville, TN.

[FR Doc. E8-11345 Filed 5-20-08; 8:45 am]

BILLING CODE 4910-22-P